DEPARTMENT OF TRANSPORTATION

Federal Aviation Administration

14 CFR Part 39

[Docket No. FAA-2010-0449; Directorate Identifier 2009-SW-38-AD; Amendment 39-16456; AD 2010-20-21]

RIN 2120-AA64

Airworthiness Directives; Agusta S.p.A. Model A109E Helicopters

AGENCY: Federal Aviation Administration (FAA), Department of Transportation (DOT).

ACTION: Final rule; correction.

SUMMARY: The FAA is correcting an airworthiness directive (AD) that published in the Federal Register. That AD applies to the products listed above. The AD number, as shown in the PART 39—AIRWORTHINESS DIRECTIVES section, is incorrect. This document corrects that error. In all other respects, the original document remains the same.

DATES: This final rule is effective November 9, 2010.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE, Washington, DC 20590.

FOR FURTHER INFORMATION CONTACT: DOT/FAA Southwest Region, Mark Wiley, ASW-111, Aviation Safety Engineer, Rotorcraft Directorate, Regulations and Policy Group, 2601 Meacham Blvd., Fort Worth, Texas 76137, telephone (817) 222-5114, fax (817) 222-5961.

SUPPLEMENTARY INFORMATION: This AD, Amendment 39-16456 (75 FR 61341, October 5, 2010), requires modifying the fuselage electrical installation and the overhead panel electrical installation for Agusta S.p.A. Model A109E helicopters.

As published, the AD number shown in the third column on Federal Register page 61342 under item 2. of PART 39—AIRWORTHINESS DIRECTIVES section is incorrect. The AD number shown is “2020-20-21;” the correct AD number should be “2010-20-21.”

No other part of the preamble or regulatory information has been changed; therefore, only the changed portion of the final rule is being published in the Federal Register.

The effective date of this AD remains November 9, 2010.

Correction of Regulatory Text

§ 39.13 [Corrected]

In the Federal Register document 2010-24723, filed October 4, 2010 and published on October 5, 2010 (75 FR 61341), on page 61342, in the third column, under “§ 39.13 [Amended],” the AD number is corrected to read as follows:

2010-20-21 AGUSTA S.p.A.: Amendment 39-16456; Docket No. FAA-2010-0449; Directorate Identifier 2009-SW-38-AD.

Issued in Fort Worth, Texas, on October 12, 2010.
Kim Smith,
Manager, Rotorcraft Directorate, Aircraft Certification Service.

[FR Doc. 2010-26569 Filed 10-21-10; 8:45 am]

BILLING CODE 4910-13-P